DEPARTMENT OF COMMERCE

International Trade Administration

Amended Trade Mission Application Deadline to the Design & Construction Trade Mission to Hong Kong, Taipei, and Ho Chi Minh City

AGENCY: International Trade Administration, Department of Commerce.

ACTION: Notice.

SUMMARY: The United States Department of Commerce, International Trade Administration (ITA), is organizing the Design & Construction Trade Mission to Hong Kong, Taipei, and Ho Chi Minh City. This notice is to update the prior Federal Register notice to reflect the new dates and new, extended application deadline.

DATES: The original mission dates were October 28-November 1, 2024. The new mission dates are dates of March 24-28, 2025, and new application deadline is now extended to December 31, 2024.

FOR FURTHER INFORMATION CONTACT: Shirreef Loza, Events Management Task Force, International Trade Administration, U.S. Department of Commerce, 1401 Constitution Avenue NW, Washington, DC 20230; telephone (202) 482-6397 or email Shirreef.Loza@trade.gov.

SUPPLEMENTARY INFORMATION:

Proposed Timetable
Day 0—Sunday, Mar 23, 2025 | • Trade Mission Participants Arrive in Hong Kong.
Day 1—Monday, Mar 24, 2025 | • Morning: Trade Mission/Market Briefing. • Afternoon: B2B Meetings and meetings with industry associations such as Urban Land Institute and Construction Industry Council. • Evening: Networking reception.
Day 2—Tuesday, Mar 25, 2025 | • Morning: B2B Meetings, continued. • Midday: Industry Roundtable or Site Visit. • Afternoon/Evening: Departure to Taiwan.
Day 3—Wednesday, Mar 26, 2025 | Taipei, Taiwan. • Morning: Country briefing at the American Institute in Taiwan. • Afternoon: Meetings with the National Association of Architects, Architecture Association of the R.O.C., and The American Society of Heating, Refrigerating, and Air-Conditioning Engineers (ASHRAE) Taiwan chapter. • Evening: Reception.
Day 4—Thursday, Mar 27, 2025 | • Morning: B2B meetings in Taiwan. • Midday/Evening: Departure to Ho Chi Minh City.
Day 5—Thursday, Mar 28, 2025 | Ho Chi Minh City. • Morning: Market Briefing by the U.S. Consulate and AmCham: Vietnam Market Overview—Opportunities and Challenges for American companies. • B2G Meetings with the Department of Construction or Department of Planning and Architects and related Associations or Site visit. • Afternoon: B2B Meetings. • Evening: Reception.
* Note: The final schedule and potential site visits will depend on the availability of host government and business officials, specific goals of mission participants, and ground transportation.

Amendment to Revise the Trade Mission Dates and Deadline for Submitting Applications

Background

Design & Construction Trade Mission to Hong Kong, Taipei, and Ho Chi Minh City

The International Trade Administration has determined that to allow for enhanced participation the mission has been rescheduled to March 24-28, 2025. Additionally, to allow for optimal execution of recruitment the application deadline has been extended from July 31, 2024, to December 31, 2024. Applications may be accepted after that date if space remains and scheduling constraints permit. Interested U.S. companies and trade associations/organizations that have not already submitted an application are encouraged to do so. The U.S. Department of Commerce will review applications and make selection decisions on a rolling basis in accordance with the 89 FR 51307 (June 17, 2024). The applicants selected will be notified as soon as possible.

Contact

Jasmine Braswell, U.S. Commercial Service—Irvine, CA, +1-949-236-1101, Jasmine.Braswell@trade.gov

Geoffrey Parish, U.S. Commercial Service—Hong Kong, +852 2521 5752, Geoffrey.Parish@trade.gov

Gemal Brangman,
Director, Trade Events Management Task Force.

[FR Doc. 2024-26789 Filed 11-15-24; 8:45 am]

BILLING CODE 3510-FP-P